DEPARTMENT OF HOUSING AND URBAN DEVELOPMENT

[Docket No. FR-5813-N-01]

Performance Review Board

AGENCY: Office of the Deputy Secretary, HUD.

ACTION: Notice of appointments.

SUMMARY: The Department of Housing and Urban Development announces the establishment of two Performance Review Boards to make recommendations to the appointing authority on the performance of its senior executives. Nelson Bregon, Towanda Brooks, and Linda Cruciani will serve as members of the Departmental Performance Review Board to review career SES performance assessments. Laura Hogshead, Mark Linton, and Lynn Ross will serve as members of the Departmental Performance Review Board to review Schedule C SES performance assessments. The address is: Department of Housing and Urban Development, Washington, DC 20410-0050.

FOR FURTHER INFORMATION CONTACT: Persons desiring any further information about the Performance Review Board and its members may contact Juliette Middleton, Director, Office of Executive Resources, Department of Housing and Urban Development, Washington, DC 20410. Telephone (202) 402-3058. (This is not a toll-free number.)

Dated: September 9, 2014.
Helen R. Kanovsky,
Acting Deputy Secretary.

[FR Doc. 2014-22217 Filed 9-16-14; 8:45 am]

BILLING CODE 4210-67-P